DEPARTMENT OF HOUSING AND URBAN DEVELOPMENT

[Docket No. FR-4817-N-04]

Announcement of OMB Approval Number for Public Housing Agency Lease Requirement, Recordkeeping Requirements

AGENCY: Office of the Assistant Secretary for Public and Indian Housing, HUD.

ACTION: Announcement of OMB approval number.

SUMMARY: The purpose of this notice is to announce the OMB approval number for HUD regulations that prescribe the provisions that shall be incorporated in leases by Public Housing agencies (PHAs) for dwelling units assisted under the U.S. Housing Act Of 1937 in projects owned by or leased to PHAs to the tenants. The recordkeeping requirement imposed upon PHAs by HUD regulations and associated information is incidental to PHAs' day-to-day operations as landlords of rental housing.

FOR FURTHER INFORMATION CONTACT: Patricia Arnaudo, Department of Housing and Urban Development, 451 7th Street, Southwest, Washington, DC 20410, telephone (202) 708-0614, extension 4250. This is not a toll-free number.

SUPPLEMENTARY INFORMATION: In accordance with the Paperwork Reduction Act of 1995 (44 U.S.C. chapter 35, as amended), this notice advises that OMB has responded to the Department's request for approval of the information collection for Public Housing Agency (PHA), Lease Requirements, Recordkeeping Requirements. The OMB approval number for this information collection is 2577-0006, which expires March 31, 2006.

An agency may not conduct or sponsor, and a person is not required to respond to, a collection of information, unless it displays a currently valid OMB control number.

Dated: March 25, 2003.
Paula O. Blunt,
General Deputy Assistant Secretary for Public and Indian Housing.

[FR Doc. 03-7705 Filed 3-31-03; 8:45 am]

BILLING CODE 4210-33-P